DEPARTMENT OF COMMERCE

National Telecommunications and Information Administration

[NTIA-2024-0005]

RIN: RIN 0660-XC065

Impact of L-Band MSS `Direct-to-Device' Operations on GPS

Correction

In notice document 2024-30760, appearing on pages 105542 through 105553 in the issue of Friday, December 27, 2024, make the following correction:

On page 105552, at the bottom of the page, Figure 1 should appear as below.

[FR Doc. C1-2024-30760 Filed 1-21-25; 8:45 am]

BILLING CODE 0099-10-D